DEPARTMENT OF JUSTICE

Notice of Lodging of Consent Decree Pursuant to The Clean Air Act

In accordance with 28 CFR 50.7, 38 FR 19029, notice is hereby given that on January 25, 2000, a proposed consent decree with respect to defendants Harry Grant and Sandalwood Construction Company in United States v. Anthony Dell'Aquila Enterprises and Subsidiaries, Harry Grant, and Sandalwood Construction Company, Civil Action No. 88-3232 (JCL), was lodged with the United States District Court for the District of New Jersey. The United States' complaint sought injunctive relief and civil penalties under the Clean Air Act (“CAA”) against Anthony Dell'Aquila Enterprises and Subsidiaries (“Dell'Aquila”), Harry Grant, and Sandalwood Construction Company in regard to violations of the National Emission Standards for Hazardous Air Pollutants for asbestos (“asbestos NESHAP”) at a facility that was owned by Dell'Aquila in Hoboken, New Jersey (“Dell'Aquila site”). The consent decree is signed on behalf of Harry Grant and Sandalwood Construction Company. The claim against Dell'Aquila was settled through a previous consent decree entered in the United States District Court for the District of New Jersey.

The consent decree provides that the defendants Harry Grant and Sandalwood Construction Company shall pay a civil penalty of $60,000. The consent decree also provides, inter alia, that each of the defendants shall conduct all demolition or renovation operations that either of them may become involved with in the future in compliance with the asbestos NESHAP. In connection with any such demolition or renovation operations, the defendants are required to engage an accredited building inspector and obtain a thorough asbestos identification survey prior to demolition or renovation to determine the presence of asbestos containing materials and to provide EPA with a copy of each survey at least twenty days prior to the commencement of any demolition or renovation.

The Department of Justice will receive comments relating to the proposed consent decree for a period of thirty (30) days from the date of this publication. Comments should be addressed to the Assistant Attorney General, Environment and Natural Resources Division, Department of Justice, Washington, DC 20530, and should refer to United States v. Anthony Dell'Aquila Enterprises and Subsidiaries, Harry Grant, and Sandalwood Construction Co., D.J. Ref. 90-5-2-1-1288.

The proposed consent decree may be examined at the office of the United States Attorney, 970 Broad St., Room 502, Newark, NJ 07102 and at the Region II office of the Environmental Protection Agency, 290 Broadway, New York, New York 10007. A copy of the proposed consent decree may also be obtained by mail from the Department of Justice Consent Decree Library, PO Box 7611, Washington, DC 20044. In requesting a copy, please enclose a check (there is a 25 cent per page reproduction cost) in the amount of $4.25 payable to the “Consent Decree Library.”

Joel M. Gross,
Chief, Environmental Enforcement Section, Environment & Natural Resources Division.

[FR Doc. 00-3113 Filed 2-9-00; 8:45 am]

BILLING CODE 4410-15-M